DEPARTMENT OF HOUSING AND URBAN DEVELOPMENT

[Docket No. FR-5414-Fa-01]

Announcement of Funding Awards for the Housing Choice Voucher Family Self-Sufficiency Administrative Fee for Fiscal Year 2009

AGENCY: Office of Public and Indian Housing, HUD.

ACTION: Announcement of Funding Awards.

SUMMARY: In accordance with Section 102(a)(4)(C) of the Department of Housing and Urban Development Reform Act of 1989, this announcement notifies the public of funding decisions made by the Department for funding under Notice PIH 2009-40 (HA) for the Housing Choice Voucher Family Self-Sufficiency (HCV/FSS) Administrative Fee funding. This announcement contains the consolidated names and addresses of those award recipients selected for funding based on the funding priority categories established in the NOFA.

FOR FURTHER INFORMATION CONTACT: For questions concerning the FY 2009 Housing Choice Voucher Family Self-Sufficiency (HCV/FSS) Administrative Fee awards, contact the Office of Public and Indian Housing's Grant Management Center, Program Analyst, Darrin C. Dorsett, Department of Housing and Urban Development, Washington, DC, telephone (202) 475-8861. For the hearing or speech impaired, these numbers may be accessed via TTY (text telephone) by calling the Federal Information Relay Service at 1 (800) 877-8339. (Other than the “800” TTY number, these telephone numbers are not toll-free.)

SUPPLEMENTARY INFORMATION: The authority for the $50,000,000 in one-year budget authority for the Housing Choice Voucher Family Self-Sufficiency (HCV/FSS) Administrative Fee funding under the Tenant-Based Assistance Account for family self sufficiency coordinators under section 23 of the United States Housing Act of 1937, is found in the Omnibus Appropriations Act, 2009 (Pub. L. 111-8, dated March 11, 2009).

This program is intended to promote the development of local strategies to coordinate the use of rental assistance with public and private resources to enable participating families to obtain employment that will enable them to decrease dependence on welfare assistance. The FSS program coordinator ensures that program participants are linked to the supportive services they need to achieve greater economic independence.

The Fiscal Year 2009 awards announced in this Notice were selected for funding in a competition announced in Notice PIH2009-40 (HA), issued on September 29, 2009. In accordance with Section 102(a)(4)(C) of the Department of Housing and Urban Development Reform Act of 1989 (103 Stat. 1987, 42 U.S.C. 3545), the Department is publishing the names, addresses, and amounts of the 688 awards made under the Housing Choice Voucher Family Self-Sufficiency Administrative Fee competition.

Dated: March 30, 2010.
Deborah Hernandez,
General Deputy Assistant Secretary for Public and Indian Housing.

Appendix A—Fiscal Year 2009 Funding Awards for the Housing Choice Voucher Family Self-Sufficiency Administrative Fee
Recipient | Address/City/State/Zip code | Amount
Alaska Housing Finance Corporation | P.O. Box 101020, Anchorage, AK 99510 | $131,116
Albertville Housing Authority | P.O. Box 1126, 711 South Broad Street, Albertville, AL 35950 | 41,824
Alexander City Housing Authority | 2110 County Road, Alexander, AL 35010 | 33,278
Florence Housing Authority | 110 South Cypress Street, Suite 1, Florence, AL 35630 | 51,729
Housing Authority of the Birmingham District | 1826 3rd Avenue South, Birmingham, AL 35233 | 65,558
Housing Authority of the City of Decatur, Alabama | P.O. Box 878, Decatur, AL 35601 | 34,778
Housing Authority of the City of Montgomery, AL | 1020 Bell Street, Montgomery, AL 36104 | 51,288
Huntsville Housing Authority | P.O. Box 486, 200 Washington Street, Huntsville, AL 35804 | 119,665
Jefferson County Housing Authority | 3700 Industrial Parkway, Birmingham, AL 35217 | 99,293
Leeds Housing Authority | 1630 Moore Street, Leeds, AL 35094 | 19,250
Mobile Housing Board | P.O. Box 1345, Mobile, AL 36633 | 80,266
Prichard Housing Authority | 4559 St. Stephens Road, Eight Mile, AL 36613 | 46,145
The Housing Authority of the City of Bessemer | 1515 Fairfax Avenue, South, Bessemer, AL 35020 | 47,584
Tuscaloosa Housing Authority | P.O. Box 2281, Tuscaloosa, AL 35403 | 51,450
Conway County Housing Authority | P.O. Box 229, Morrilton, AR, 72110 | 39,151
Fort Smith Housing Authority | 2100 North 31st Street, Fort Smith, AR 72904 | 51,510
Housing Authority of Lonoke County | P.O. Box 74, 617 No. Greenlaw, Carlisle, AR 72024 | 46,427
Housing Authority of the City of Hope | 720 Texas Street, Hope, AR 71801 | 31,314
Housing Authority of the City of Hot Springs | P.O. Box 1257, Hot Springs, AR 71901 | 35,360
Housing Authority of the City of Pine Bluff | 2503 Belle Meade, Pine Bluff, AR 71601 | 43,200
Housing Authority of the City of West Memphis | 2820 Harrison Street, West Memphis, AR 72301 | 44,525
Jonesboro Urban Renewal and Housing Authority | 330 Union, Jonesboro, AR 72401 | 52,550
Little Rock Housing Authority | 100 South Arch Street, Little Rock, AR 72201 | 38,000
McGehee Public Residential Housing Facilities Board | P.O. Box 725, McGehee, AR 71654 | 39,810
Mississippi County Public Facilities Board | 810 West Keiser, Osceola, AR 72370 | 38,925
North Little Rock Housing Authority | P.O. Box 516, North Little Rock, AR 72115 | 110,039
Northwest Regional Housing Authority | P.O. Box 2568, 114 Sisco Avenue, Harrison, AR 72602 | 40,609
Pope County Public Facilities Board | P.O. Box 846, 301 East 3rd Street, Russellville, AR 72811 | 35,695
Pulaski County Housing Agency | 201 South Broadway, Suite 220, Little Rock, AR 72205 | 35,510
White River Regional Housing Authority | P.O. Box 650, Melbourne, AR 72556 | 49,002
Wynne Housing Authority | 200 Fisher Place, Wynne, AR 72396 | 34,000
City of Chandler, Housing and Redevelopment Division | P.O. Box 4008, Mail Stop 101, Chandler, AZ 85244 | 54,442
City of Douglas Public Housing Authority | 425 10th Street, Douglas, AZ 85607 | 66,600
City of Mesa Housing Authority | 20 East Main Street, Suite 250, Mesa, AZ 85201 | 68,000
City of Phoenix Housing Department | 251 West Washington, 4th Floor, Phoenix, AZ 85003 | 136,000
City of Scottsdale Housing Agency | 7515 East 1st Street, Scottsdale, AZ 85251 | 68,000
City of Tempe Housing Services | 21 East 6th Street, Suite 214, Tempe, AZ 85281 | 68,000
City of Tucson | 310 North Commerce Park Loop, Tucson, AZ 85726 | 59,562
Housing Authority of Cochise County | P.O. Box 167, 100 Clawson Avenue, Bisbee, AZ 85603 | 45,773
Housing Authority of Maricopa County | 2024 North 7th Street, Phoenix, AZ 85006 | 45,145
Mohave County Housing Authority | P.O. Box 7000, Kingman, AZ 86402 | 50,100
Pinal County Housing & Community Development | 970 North Eleven Mile Corner Road, Casa Grande, AZ 85294 | 55,368
Yuma County Housing Department | 8450 West Highway 95 #88, Somerton, AZ 85350 | 57,501
Area Housing Authority of the County of Ventura | 1400 West Hillcrest Drive, Newbury Park, CA 91320 | 63,500
City of Anaheim Housing Authority | 201 South Anaheim Boulevard, Suite 203, Anaheim, CA 92805 | 136,000
City of Baldwin Park Housing Authority | 14403 East Pacific Avenue, Baldwin Park, CA 91706 | 68,000
City of Inglewood Housing Authority | 1 Manchester Boulevard, Suite 750, Inglewood, CA 90301 | 68,000
City of Norwalk Housing Authority | 12035 Firestone Boulevard, Norwalk, CA 90650 | 79,996
City of Oceanside Community Development Commission | 300 North Coast Highway, Oceanside, CA 92054 | 136,000
City of Pomona Housing Authority | 505 South Garey Avenue, Pomona, CA 91766 | 73,667
City of San Jose Housing Authority (056) | 505 West Julian Street, San Jose, CA 95110 | 71,500
City of Santa Rosa Housing Authority | Department of Economic Development and Housing, P.O. Box 1806, Santa Rosa, CA 95402 | 68,000
Compton Local Housing Authority | 600 North Alameda Street, Compton, CA 90221 | 68,000
Consolidated Area Housing Authority of Sutter County | 448 Garden Highway, Yuba City, CA 95991 | 55,752
County of Sacramento Housing Authority | 630 I Street, Sacramento, CA 95814 | 68,000
Culver City Housing Agency | 9770 Culver Boulevard, Culver City, CA 90232 | 65,558
Department of Housing & Community Development | P.O. Box 952054, 1800 3rd Street, Sacramento, CA 94252 | 34,000
El Dorado County Community Services | 937 Spring Street, Placerville, CA 95667 | 59,309
Fairfield Housing Authority | 823-B Jefferson Street, Fairfield, CA 94533 | 66,155
Garden Grove Housing Authority | 11277 Garden Grove Boulevard, Suite 101-C, Garden Grove, CA 92842 | 66,660
Housing Authority of Kings County | P.O. Box 355, Hanford, CA 93232 | 56,667
Housing Authority of the City of Benicia | 28 Riverhill Drive, Benicia, CA 94510 | 65,558
Housing Authority of the City of Fresno | Post Office Box 11985, Fresno, CA 93776 | 240,735
Housing Authority of the City of Hollister | 2931 Mission Street, Santa Cruz, CA 95060 | 34,000
Housing Authority of the City of Long Beach | 521 East 4th Street, Long Beach, CA 90802 | 204,000
Housing Authority of the City of Los Angeles | 2500 Wilshire Boulevard, PH, Los Angeles, CA 90057 | 204,000
Housing Authority of the City of Madera | 205 North G Street, Madera, CA 93637 | 56,158
Housing Authority of the City of Oxnard | 435 South D Street, Oxnard, CA 93030 | 66,660
Housing Authority of the City of Redding | P.O. Box 496071, Redding, CA 96049 | 58,136
Housing Authority of the City of San Buenaventura | 995 Riverside Street, Ventura, CA 93001 | 54,404
Housing Authority of the City of San Luis Obispo | 487 Leff Street, San Luis Obispo, CA 93401 | 51,066
Housing Authority of the City of Santa Ana | P.O. Box 22030, Santa Ana, CA 92702 | 64,326
Housing Authority of the City of Santa Barbara | 808 Laguna Street, Santa Barbara, CA 93101 | 133,320
Housing Authority of the City of Vallejo | P.O. Box 1432, 200 Georgia Street, Vallejo, CA 94590 | 68,000
Housing Authority of the County of Alameda | 22941 Atherton Street, Hayward, CA 94541 | 204,000
Housing Authority of the County of Butte | 2039 Forest Avenue, Chico, CA 95928 | 63,000
Housing Authority of the County of Contra Costa | P.O. Box 2759, 3133 Estudillo Street, Martinez, CA 94553 | 138,875
Housing Authority of the County of Fresno | Post Office Box 11985, 1331 Fulton Mall, Fresno, CA 93776 | 243,579
Housing Authority of the County of Kern | 601—24th Street, Bakersfield, CA 93301 | 188,412
Housing Authority of the County of Marin | 4020 Civic Center Drive, San Rafael, CA 94903 | 133,320
Housing Authority of the County of Monterey | 123 Rico Street, Salinas, CA 93907 | 63,891
Housing Authority of the County of Riverside | 5555 Arlington Avenue, Riverside, CA 92504 | 199,627
Housing Authority of the County of San Bernardino | 715 East Brier Drive, San Bernardino, CA 92408 | 121,640
Housing Authority of the County of San Diego | 3989 Ruffin Road, San Diego, CA 92123 | 66,660
Housing Authority of the County of San Joaquin | P.O. Box 447, Stockton, CA 95201 | 131,116
Housing Authority of the County of San Mateo | 264 Harbor Boulevard, #A, Belmont, CA, 94002 | 136,000
Housing Authority of the County of Santa Barbara | 815 West Ocean Avenue, Lompoc, CA 93436 | 83,325
Housing Authority of the County of Santa Cruz | 2931 Mission Street, Santa Cruz, CA 95060 | 81,948
Housing Authority of the County of Stanislaus | P.O. Box 581918, 1701 Robertson Road, Modesto, CA 95358 | 135,000
Imperial Valley Housing Authority | 1401 D Street, Brawley, CA 92227 | 61,151
Lake County Housing Commission | P.O. Box 1049, 16170 Main Street, Suite D, Lower Lake, CA 95459 | 63,133
Oakland Housing Authority | 1619 Harrison Street, Oakland, CA 94612 | 196,674
Orange County Housing Authority | 1770 North Broadway, Santa Ana, CA 92706 | 209,128
Pico Rivera Housing Assistance Agency | 6615 Passons Boulevard, Pico Rivera, CA 90660 | 64,689
Roseville Housing Authority | 311 Vernon Street, Roseville, CA 95678 | 65,557
San Diego Housing Commission | 1122 Broadway, Suite 300, San Diego, CA 92101 | 199,800
Santa Clara County Housing Authority | 505 West Julian Street, San Jose, CA 95110 | 71,500
Santa Monica Housing Authority | 1901 Main Street, Suite A, Santa Monica, CA 90405 | 64,640
Shasta County Housing Authority | 1450 Court Street, Suite 108, Redding, CA 96001 | 50,723
Solano County Housing Authority | 40 Eldridge Avenue, Suite 2, Vacaville, CA 95688 | 70,706
Sonoma County Housing Authority | 1440 Guerneville Road, Santa Rosa, CA 95403 | 65,558
The Housing Authority of the County of Los Angeles | 12131 Telegraph Road, Santa Fe Springs, CA 90670 | 204,000
Vacaville Housing Authority | 40 Eldridge Avenue, Suite 2, Vacaville, CA 95688 | 229,454
Yuba County Housing Authority | 915 8th Street, Suite 130, Marysville, CA 95901 | 55,597
Adams County Housing Authority | 7190 Colorado Boulevard, Commerce City, CO 80022 | 49,354
Boulder County Housing Authority | P.O. Box 471, Boulder, CO 80306 | 123,504
Colorado Department of Local Affairs, Division of Housing | 1313 Sherman Street, Room 518, Denver, CO 80203 | 47,550
Fort Collins Housing Authority | 1715 West Mountain Avenue, Fort Collins, CO 80521 | 133,320
Grand Junction Housing Authority | 1011 North 10th Street, Grand Junction, CO 81501 | 56,580
Housing Authority of the City & County of Denver | 777 Grant Street, Denver, CO 80203 | 44,024
Housing Authority of the City of Englewood | 3460 South Sherman, Suite 101, Englewood, CO 80113 | 43,692
Housing Authority of the City of Loveland | 375 West 37th Street, Suite 200, Loveland, CO 80538 | 41,521
Housing Authority of the City of Pueblo | 1414 North Santa Fe Avenue, Pueblo, CO 81003 | 42,379
Lakewood Housing Authority | 575 Union Boulevard, Suite 100, Lakewood, CO 80228 | 33,330
Bristol Housing Authority | 164 Jerome Avenue, Bristol, CT 6010 | 66,660
Connecticut Department of Social Services | 25 Sigourney Street, Hartford, CT 6106 | 204,000
Housing Authority of the City of Ansonia | 36 Main Street, Ansonia, CT 6401 | 52,955
Housing Authority of the City of Meriden | P.O. Box 911, 22 Church Street, Meriden, CT 6451 | 52,701
Housing Authority of the City of New Britain | 16 Armistice Street, New Britain, CT 6053 | 68,000
Housing Authority of the City of Norwalk | P.O. Box 508, 24 ½ Monroe Street, Norwalk, CT 6856 | 68,000
Housing Authority of the City of Stamford | 22 Clinton Street, Stamford, CT 6901 | 68,000
West Hartford Housing Authority | 80 Shield Street, West Hartford, CT 6110 | 68,000
Boca Raton Housing Authority | 2333A West Glades Road, Boca Raton, FL 33431 | 51,005
Broward County Housing Authority | 4780 North State Road 7, Lauderdale Lakes, FL 33319 | 100,621
Clearwater Housing Authority | 908 Cleveland Street, Clearwater, FL 33755 | 47,296
County of Volusia, FL | 110 West Rich Avenue, Deland, FL 32720 | 56,460
Deerfield Beach Housing Authority | 533 South Dixie Highway, Suite 201, Deerfield Beach, FL 33441 | 46,764
Delray Beach Housing Authority | 600 North Congress Avenue, Suite 310-B, Delray Beach, FL 33445 | 50,917
Fort Pierce Housing Authority | 707 North 7th Street, Fort Pierce, FL 34950 | 63,166
Hialeah Housing Authority | 75 East 6th Street, Hialeah, FL 33040 | 71,637
Hillsborough County Housing Choice Voucher | 3620 West Humphrey Street, Tampa, FL 33614 | 190,035
Housing Authority of the City of Fort Lauderdale | 437 Southwest 4th Avenue, Fort Lauderdale, FL 33315 | 131,648
Housing Authority of the City of Fort Myers | 4224 Michigan Avenue, Fort Myers, FL 33916 | 103,894
Housing Authority of the City of Homestead | 29355 South Federal Highway, Homestead, FL 33033 | 22,500
Housing Authority of the City of Miami Beach | 200 Alton Road, Miami Beach, FL 33139 | 63,000
Housing Authority of the City of Pompano Beach | P.O. Box 2006, Pompano Beach, FL 33061 | 49,454
Housing Authority of the City of Tampa | 1529 West Main Street, Tampa, FL 33607 | 151,611
Jacksonville Housing Authority | 1300 Broad Street, Jacksonville, FL 32202 | 142,426
Lee County Housing Authority | 14170 Warner Circle Northwest, North Fort Myers, FL 33903 | 46,415
Manatee County Housing Authority | 5631 11th Street East, Bradenton, FL 34203 | 62,000
Ocala Housing Authority | 1629 Northwest 4th Street, Ocala, FL 34475 | 49,893
Orange County Housing and Community Development | 525 East South Street, Orlando, FL 32801 | 68,000
Palm Beach County Housing Authority | 3432 West 45th Street, West Palm Beach, FL 33407 | 79,367
Pasco County Housing Authority | 14517 7th Street, Dade City, FL 33523 | 32,749
Pinellas County Housing Authority | 11479 Ulmerton Road, Largo, FL 33778 | 63,900
Punta Gorda Housing Authority | 340 Gulf Breeze Avenue, Punta Gorda, FL 33950 | 52,500
Sarasota Housing Authority | 1300 Boulevard of the Arts, Sarasota, FL 34236 | 10,000
Tallahassee Housing Authority | 2940 Grady Road, Tallahassee, FL 32312 | 52,346
The Housing Authority of the City of Daytona Beach | 211 North Ridgewood Avenue, Daytona Beach, FL 32114 | 41,132
The Housing Authority of the City of Lakeland | P.O. Box 1009, Lakeland, FL 33802 | 87,380
Walton County Housing Agency | 76 North 6th Street, DeFuniak Springs, FL 32433 | 25,000
West Palm Beach Housing Authority | 1715 Division Avenue, West Palm Beach, FL 33407 | 87,526
Housing Authority City of Jonesboro | 203 Hightower Street, Jonesboro, GA 30236 | 109,404
Housing Authority of Columbus, Georgia | P.O. Box 630, Columbus, GA 31902 | 45,450
Housing Authority of DeKalb County, Georgia | 750 Commerce Drive, Suite 201, Decatur, GA 30030 | 42,500
Housing Authority of Fulton County | 4273 Wendell Drive, Atlanta, GA 30336 | 46,101
Housing Authority of Newnan | 48 Ball Street, Newman, GA 30263 | 17,000
Housing Authority of Savannah | P.O. Box 1179, 1407 Wheaton Street, Savannah, GA 31402 | 136,000
Housing Authority of the City of Augusta, Georgia | 1435 Walton Way, Augusta, GA 30901 | 225,399
Housing Authority of the City of Carrollton, GA | 1 Roop Street, Carrollton, GA 30117 | 55,892
Housing Authority of the City of College Park | 2000 West Priceton Avenue, College Park, GA 30337 | 63,434
Housing Authority of the City of East Point | 3056 Norman Berry Drive, East Point, GA 30344 | 66,660
Housing Authority of the City of Marietta | P.O. Drawer K, 95 Cole Street, Marietta, GA 30061 | 56,510
The Housing Authority, City of Brunswick | P.O. Box 1118, Brunswick, GA 31521 | 42,517
Guam Housing and Urban Renewal Authority | 117 Bien Venida Avenue, Sinajana, GU 96910 | 54,209
City and County of Honolulu | Honolulu Hale, Honolulu, HI 96813 | 185,986
County of Maui | 35 Lunalilo Street, Suite 400, Wailuku, HI 96793 | 68,000
Hawaii County Housing Agency | 50 Wailuku Drive, Hilo, HI 96720 | 65,549
Hawaii Public Housing Authority | P.O. Box 17907, Honolulu, HI 96817 | 124,813
Kauai, County of DBA Kauai County Housing Agency | 4444 Rice Street, Suite 330, Lihue, HI 96766 | 130,000
Central Iowa Regional Housing Authority | 1201 S.E. Gateway Drive, Grimes, IA 50111 | 56,959
City of Cedar Rapids (Housing Services) | 1211 6th Street SW, Cedar Rapids, IA 52404 | 136,000
City of Des Moines, Municipal Housing Agency | 100 East Euclid Avenue, #101, Des Moines, IA 50313 | 131,656
City of Dubuque | 3500 West 6th Street, Suite 312, Dubuque, IA 52001 | 46,472
City of Sioux City Housing Authority | P.O. Box 447, 405 6th Street, Suite 107, Sioux City, IA 51102 | 65,558
Eastern Iowa Regional Housing Authority | 7600 Commerce Park, Dubuque, IA 52002 | 66,307
Iowa City Housing Authority | 410 East Washington Street, Iowa City, IA 52240 | 120,515
Mid Iowa Regional Housing Authority | 1605 1st Avenue No, Suite 1, Fort Dodge, IA 50501 | 46,589
Municipal Housing Agency of Council Bluffs, IA | 505 South 6th Street, Council Bluffs, IA 51501 | 48,194
Municipal Housing Agency of the City of Fort Dodge | 700 South 17th Street, Fort Dodge, IA 50501 | 34,027
Muscatine Municipal Housing Agency | 215 Sycamore, Muscatine, IA 52761 | 54,791
Region XII Regional Housing Authority | P.O. Box 663, 320 East 7th Street, Carroll, IA 51401 | 45,400
Southern Iowa Regional Housing Authority | 219 North Pine Street, Creston, IA 50801 | 43,416
Waterloo Housing Authority | 620 Mulberry Street, Suite #102, Waterloo, IA 50703 | 35,000
Ada County Housing Authority | 1276 West River Street, Suite 300, Boise, ID 83702 | 111,708
Boise City Housing Authority | 1276 West River Street, Suite 300, Boise, ID 83702 | 111,710
Idaho Housing and Finance Association | P.O. Box 7899, 565 West Myrtle, Boise, ID 83707 | 161,664
Southwestern Idaho Cooperative Housing Authority | 1108 West Finch Drive, Nampa, ID 83651 | 96,202
Chicago Housing Authority | 60 East Van Buren, Chicago, IL 60605 | 167,214
County of Lake | 33928 North Route 45, Grayslake, IL 60073 | 101,360
Decatur Housing Authority | 1808 East Locust Street, Decatur, IL 62521 | 49,090
Dupage Housing Authority | 711 East Roosevelt Road, Wheaton, IL 60187 | 134,001
Housing Authority of Champaign County | 205 West Park Avenue, Champaign, IL 61820 | 32,832
Housing Authority of Cook County | 175 West Jackson Boulevard, Suite 350, Chicago, IL 60604 | 168,000
Housing Authority of Elgin | 120 South State Street, Elgin, IL 60123 | 66,660
Housing Authority of Joliet | 6 South Broadway Street, Joliet, IL 60436 | 63,900
Housing Authority of Marion County | 719 East Howard Street, Centralia, IL 62801 | 55,380
Housing Authority of the City of Bloomington | 104 East Wood Street, Bloomington, IL 61701 | 51,269
Housing Authority of the City of Rock Island | 227 21st Street, Rock Island, IL 61201 | 64,909
Housing Authority of the City of Waukegan | 215 South Martin Luther King Jr. Avenue, Waukegan, IL 60085 | 50,316
Kankakee County Housing Authority | P.O. Box 965, 185 North St. Joseph Avenue, Kankakee, IL 60901 | 53,565
Kendall Housing Authority | 208 South Bridge Street, Yorkville, IL 60560 | 22,333
Madison County Housing Authority | 1609 Olive Street, Collinsville, IL 62234 | 37,689
Menard County Housing Authority | P.O. Box 168, 101 West Sheridan, Petersburg, IL 62675 | 44,187
Peoria Housing Authority | 100 South Richard Pryor Place, Peoria, IL 61605 | 48,213
Rockford Housing Authority | 223 South Winnebago Street, Rockford, IL 61102 | 126,084
Springfield Housing Authority | 200 North Eleventh Street, Springfield, IL 62703 | 58,000
Winnebago County Housing Authority | 3617 Delaware Street, Rockford, IL 61102 | 63,603
Bloomington Housing Authority | 1007 North Summit, Bloomington, IN 47404 | 94,838
Evansville Housing Authority | 500 Court Street, Evansville, IN 47708 | 68,000
Gary Housing Authority | 578 Broadway, Gary, IN 46402 | 50,400
Housing Authority City of Peru | 701 East Main Street, Peru, IN 46970 | 45,490
Housing Authority of City of Terre Haute | P.O. Box 3086, Terre Haute, IN 47803 | 111,079
Housing Authority of the City of Elkhart | 1396 Benham Avenue, Elkhart, IN 46516 | 98,867
Housing Authority of the City of Fort Wayne, Indiana | P.O. Box 13489, 7315 Hanna Street, Fort Wayne, IN 46869 | 87,534
Housing Authority of the City of Goshen | 1101 West Lincoln Avenue, Suite 100, Goshen, IN 46526 | 50,948
Housing Authority of the City of Hammond | 1402 173rd Street, Hammond, IN 46324 | 73,538
Housing Authority of the City of Kokomo, IN | P.O. Box 1207, 210 East Taylor Street, Kokomo, IN 46903 | 41,244
Housing Authority of the City of Marion, IN | 601 South Adams Street, Marion, IN 46953 | 34,842
Housing Authority of the City of Muncie | 409 East 1st Street, Muncie, IN 47302 | 48,204
Housing Authority of the City of South Bend | 501 Alonzo Watson Drive, South Bend, IN 46601 | 36,748
Housing Authority of the County of Delaware, Indiana | 2401 South Haddix Avenue, Muncie, IN 47302 | 27,500
Housing Authority of Vincennes | P.O. Box 1636, 501 Hart Street, Vincennes, IN 47591 | 86,406
Indianapolis Housing Agency | 1919 North Meridian Street, Indianapolis, IN 46202 | 143,829
Knox County Housing Authority | 11 Powell Street, Bicknell, IN 47512 | 32,157
Logansport Housing Authority | 719 Spencer Street, Suite 100, Logansport, IN 46947 | 29,706
The Housing Authority of the City of Columbus | 799 McClure Road, Columbus, IN 47201 | 45,572
The Housing Authority of the City of New Albany, IN | P.O. Box 11, New Albany, IN 47150 | 48,480
City of Wichita Housing Authority | 332 North Riverview, Wichita, KS 67203 | 147,046
Housing Authority of Olathe, KS | P.O. Box 768, 201 North Cherry Street, Olathe, KS 66051 | 54,278
Johnson County Housing Authority | 12425 West 87th Street Parkway, Suite 200, Lenexa, KS, 66215 | 62,127
Lawrence-Douglas County Housing Authority | 1600 Haskell Avenue, Lawrence, KS 66044 | 87,134
Topeka Housing Authority | 2010 South East California Avenue, Topeka, KS 66607 | 43,148
Appalachian Foothills Housing Agency, Inc | 1214 Riverside Boulevard, Wurtland, KY 41144 | 43,766
Barbourville Urban Renewal & CDA | P.O. Box 806, Barbourville, KY 40906 | 32,380
Boone County Fiscal Court | P.O. Box 536, Burlington, KY 41005 | 64,909
Campbell County Department of Housing | P.O. Box 424, 1010 Monmouth Street, Newport, KY 41072 | 47,852
Campbellsville Housing & Redevelopment Authority | 400 Ingram Avenue, Campbellsville, KY 42718 | 17,689
City of Covington CDA | 2300 Madison Avenue, Covington, KY 41014 | 51,005
City of Paducah Section 8 Housing | Post Office Box 2267, Paducah, KY 42002 | 27,889
City of Richmond Section 8 Housing | P.O. Box 250, Richmond, KY 40476 | 36,091
Cumberland Valley Regional Housing Authority | P.O. Box 806, Barbourville, KY 40906 | 85,273
Housing Authority of Cynthiana | 148 Federal Street, Cynthiana, KY 41031 | 62,664
Housing Authority of Floyd County | 402 John M. Stumbo Drive, Langley, KY 41645 | 33,300
Housing Authority of Frankfort | 590 Walter Todd Drive, Frankfort, KY 40601 | 48,246
Housing Authority of Georgetown | 139 Scroggin Park, Georgetown, KY 40324 | 79,813
Housing Authority of Newport, KY | P.O. Box 72459, 30 East 8th Street, Newport, KY 41071 | 52,213
Housing Authority of Somerset | (606) 679-1332, Somerset, KY 42502 | 41,915
Kentucky Housing Corporation | 1231 Louisville Road, Frankfort, KY 40601 | 152,426
Lexington-Fayette Urban County Housing Authority | 300 West New Circle Road, Lexington, KY 40505 | 49,534
Louisville Metro Housing Authority | 420 South Eighth Street, Louisville, KY 40203 | 191,388
Pike County Housing Authority | P.O. Box 1468, Pikeville, KY 41501 | 68,000
Pineville Urban Renewal & Community | P.O. Box 460, 114 West Kentucky Avenue, Pineville, KY 40977 | 15,812
Calcasieu Parish Police Jury Housing Department | 1011 Lakeshore Drive, Suite #602, Lake Charles, LA 70601 | 14,820
Housing Authority of New Orleans | 4100 Touro Street, New Orleans, LA 70122 | 75,966
Jefferson Parish Housing Authority | 1718 Betty Street, Marrero, LA 70072 | 107,150
Natchitoches Parish Housing Authority | 525 Fourth Street, Natchitoches, LA 71457 | 56,865
Shreveport Housing Authority | 2500 Line Avenue, Shreveport, LA 71104 | 39,704
Terrebonne Parish Consolidated Government | 809 Barrow Street, Houma, LA 70360 | 43,048
Acton Housing Authority | P.O. Box 681, Acton, MA 1720 | 59,337
Arlington Housing Authority | 4 Winslow Street, Arlington, MA 2474 | 66,660
Attleboro Housing Authority | 37 Carlon Street, Attleboro, MA 2703 | 66,944
Boston Housing Authority | 52 Chauncy Street, Boston, MA 2111 | 193,792
Braintree Housing Authority | 25 Roosevelt Street, Braintree, MA 2184 | 53,163
Brockton Housing Authority | P.O. Box 7070, 45 Goddard Road, Brockton, MA 2301 | 68,000
Chelmsford Housing Authority | 10 Wilson Street, Chelmsford, MA 1824 | 62,729
Chelsea Housing Authority | 54 Locke Street, Chelsea, MA 2150 | 64,909
Commonwealth of Massachusetts | 100 Cambridge Street, Boston, MA 2114 | 215,445
Framingham Housing Authority | 1 John J. Brady Drive, Framingham, MA 1702 | 66,307
Gardner Housing Authority | 116 Church Street, Gardner, MA 1440 | 50,260
Gloucester Housing Authority | P.O. Box 1599, Gloucester, MA 1931 | 42,528
Greenfield Housing Authority | 1 Elm Terrace, Greenfield, MA 1301 | 109,814
Holyoke Housing Authority | 475 Maple Street, Suite One, Holyoke, MA 1040 | 48,680
Leominster Housing Authority | 100 Main Street, Leominster, MA 1453 | 47,772
Lowell Housing Authority | P.O. Box 60, 350 Moody Street, Lowell, MA 1853 | 64,909
Lynn Housing Authority & Neighborhood Development | 10 Church Street, Lynn, MA 1902 | 60,039
Malden Housing Authority | 630 Salem Street, Malden, MA 2148 | 34,000
Medford Housing Authority | 121 Riverside Avenue, Medford, MA 2155 | 66,660
Melrose Housing Authority | 910 Main Street, Melrose, MA 2176 | 38,633
Methuen Housing Authority | 24 Mystic Street, Methuen, MA 1844 | 55,117
Milton Housing Authority | 65 Miller Avenue, Milton, MA 2186 | 66,660
North Andover Housing Authority | One Morkeski Meadows, North Andover, MA 1844 | 57,284
Plymouth Housing Authority | P.O. Box 3537, 69 Allerton Street, Plymouth, MA 2361 | 45,904
Quincy Housing Authority | 80 Clay Street, Quincy, MA 2170 | 72,215
Revere Housing Authority | 70 Cooledge Street, Revere, MA 2151 | 66,600
Somerville Housing Authority | 30 Memorial Road, Somerville, MA 2145 | 44,374
Taunton Housing Authority | 30 Olney Street, Suite B, Taunton, MA 2780 | 60,642
Wayland Housing Authority | 109 Main Street, Wayland, MA 1778 | 10,000
Woburn Housing Authority | 59 Campbell Street, Woburn, MA 1801 | 56,309
Worcester Housing Authority | 40 Belmont Street, Worcester, MA 1605 | 130,000
Baltimore County Housing OFC | 6401 York Road, Baltimore, MD 21212 | 130,163
Carroll County Bureau of Housing | 10 Distillery Drive, Suite 101, Westminster, MD 21157 | 66,929
Cecil County Housing Agency | 200 Chesapeake Boulevard, Suite 1800, Elkton, MD 21921 | 51,519
City of Westminster | 1838 Emerald Hill Lane, Westminster, MD 21157 | 44,142
Harford County Housing Agency | 15 South Main Street, Suite 106, Bel Air, MD 21014 | 55,679
Housing Authority of Baltimore City | 417 East Fayette Street, Baltimore, MD 21202 | 217,948
Housing Authority of St. Mary's County, Maryland | 21155 Lexwood Drive, Suite C, Lexington Park, MD 20653 | 44,602
Housing Authority of the City of Frederick | 209 Madison Street, Frederick, MD 21701 | 49,370
Housing Authority of Washington Co | 319 East Antietam Street, 2nd Floor, Hagerstown, MD 21740 | 31,000
Housing Commission of Anne Arundel County | 7477 Baltimore Annapolis Boulevard, Suite 301, Glen Burnie, MD 21061 | 127,260
Housing Opportunities Commission | 10400 Detrick Avenue, Kensington, MD 20895 | 201,168
Howard County Housing Commission | 6751 Columbia Gateway Drive, Columbia, MD 21046 | 60,455
Maryland Department of Housing and Community Development | 100 Community Place, Crownesville, MD 21032 | 37,526
Queen Anne's County Housing Authority | P.O. Box 327, Centreville, MD 21617 | 43,481
Rockville Housing Enterprises | 621A Southlawn Lane, Rockville, MD 20850 | 36,000
The Housing Authority of the City of Hagerstown, MD | 35 West Baltimore Street, Hagerstown, MD 21740 | 50,168
Augusta Housing Authority | 33 Union Street, Augusta, ME 4330 | 40,204
Bangor Housing Authority | 161 Davis Road, Bangor, ME 4401 | 48,858
City of Caribou | 25 High Street, Caribou, ME 4736 | 48,247
Housing Authority of the City of Old Town | 358 Main Street, Old Town, ME 4468 | 23,735
Lewiston Housing Authority | 1 College Street, Lewiston, ME 4240 | 39,577
Maine State Housing Authority | 353 Water Street, Augusta, ME 4330 | 54,031
Portland Housing Authority | 14 Baxter Boulevard, Portland, ME 4101 | 52,332
Westbrook Housing Authority | 30 Liza Harmon Drive, Westbrook, ME 4092 | 40,205
Dearborn Heights Housing Commission | 1160 Sheridan Street, Plymouth, MI 48170 | 44,031
Detroit Housing Commission | 2211 Orleans, Detroit, MI 48207 | 65,000
Grand Rapids Housing Commission | 1420 Fuller Avenue SE, Grand Rapids, MI 49507 | 194,758
Kent County Housing Commission | 82 Ionia Avenue, NW, Suite 390, Grand Rapids, MI 49503 | 115,924
Michigan State Housing Development Authority | 735 East Michigan Avenue, Lansing, MI 48909 | 204,000
Plymouth Housing Commission | 1160 Sheridan Street, Plymouth, MI 48170 | 88,062
Pontiac Housing Commission | 132 Franklin Boulevard, Pontiac, MI 48341 | 60,123
Saginaw Housing Commission | 1803 Norman Street, Saginaw, MI 48605 | 86,492
Traverse City Housing Commission | 10200 East Carter Centre, Traverse City, MI, 49684 | 66,307
Westland Housing Commission | 32715 Dorsey Road, Westland, MI 48186 | 33,069
Wyoming Housing Commission | 2450 36th Street SW, Wyoming, MI 49519 | 140,215
Brainerd Housing and Redevelopment Authority | 324 East River Road, Brainerd, MN 56401 | 68,000
Dakota County CDA | 1228 Town Centre Drive, Eagan, MN 55123 | 24,630
Housing & Redevelopment Authority of Clay County | P.O. Box 99, 116 Center Avenue East, Dilworth, MN 56529 | 81,370
Housing & Redevelopment Authority, Duluth, MN | P.O. Box 16900, 222 East Second Street, Duluth, MN 55816 | 64,894
Housing Authority of St. Louis Park | 5005 Minnetonka Boulevard, St. Louis Park, MN 55416 | 20,356
Housing Redevelopment Authority of Virginia MN | 442 Pine Mill Court, Virginia, MN 55792 | 58,132
Mankato Economic Development Authority | PO Box 3368, 10 Civic Center Plaza, Mankato, MN 56002 | 52,550
Metropolitan Council HRA | 390 Robert Street North, St. Paul, MN 55101 | 63,263
Northwest Minnesota Multi-County Housing and Redevelopment Authority | P.O. Box 128, 205 Garfield Avenue, Mentor, MN 56716 | 37,704
Public Housing Agency of the City of Saint Paul | 555 North Wabasha Street, Suite 400, Saint Paul, MN 55102 | 68,000
South Central MN Multi-County HRA | 360 Pierce Avenue, Suite 106, North Mankato, MN 56003 | 38,422
Southeastern Minnesota Multi-County Housing & Redevelopment Authority | 134 East Second Street, Wabasha, MN 55981 | 36,064
Washington County Housing and Redevelopment Authority | 321 Broadway Avenue, St. Paul Park, MN 55071 | 42,500
Franklin County PHA | P.O. Box 920, Hillsboro, MO 63050 | 85,980
Housing Assistance Program St. Charles County | 16 North Court Street, Bowling Green, MO 63334 | 42,405
Housing Authority of Kansas City, Missouri | 301 East Armour, Kansas City, MO 64111 | 176,499
Housing Authority of St. Louis County | 8865 Natural Bridge Road, St. Louis, MO 63121 | 101,910
Housing Authority of the City of Columbia, Missouri | 201 Switzler Street, Columbia, MO 65203 | 50,870
Housing Authority of the City of Liberty, MO | 17 East Kansas, Liberty, MO 64068 | 44,203
Housing Authority of the City of Springfield, Missouri | 421 West Madison Street, Springfield, MO 65806 | 26,559
Lincoln County PHA | 16 North Court Street, Bowling Green, MO 63334 | 110,786
Phelps County Public Housing Agency | #4 Industrial Drive, St. James, MO 65559 | 53,458
Ripley County Public Housing Agency | 3019 Fair Street, Poplar Bluff, MO 63901 | 42,344
Saint Charles Housing Authority | 1041 Olive Street, Saint Charles, MO 63301 | 47,886
St. Clair County PHA | 106 West Fourth Street, Appleton City, MO 64724 | 138,765
St. Francois County Public Housing Agency | P.O. Box 308, 403 Parkway Drive, Park Hills, MO 63601 | 31,218
St. Louis Housing Authority | 3520 Page Boulevard, St. Louis, MO 63106 | 60,902
Mississippi Regional Housing Authority No. IV | P.O. Box 1051, Columbus, MS 39703 | 37,842
Mississippi Regional Housing Authority No. VII | P.O. Box 748, McComb, MS 39649 | 45,065
Mississippi Regional Housing Authority VI | 2180 Terry Road, Jackson MS 39204 | 125,533
Mississippi Regional Housing Authority VIII | P.O. Box 2347, 10430 Three Rivers Road, Gulfport, MS 39505 | 68,000
MS Regional Housing Authority No. V | P.O. Box 419, Newton, MS 39345 | 32,901
North Delta Regional Housing Authority | P.O. Box 1148, #4 East Second Street, Clarksdale, MS 38614 | 46,359
South Delta Regional Housing Authority | 202 Weston Avenue, Leland, MS 38756 | 50,000
Tennessee Valley Regional Housing Authority | P.O. Box 1329, Corinth, MS 38835 | 165,150
The Housing Authority of the City of Biloxi | P.O. Box 447, Biloxi, MS 39533 | 51,500
The Housing Authority of the City of Jackson, MS | P.O. Box 11327, 2747 Livingston Road, Jackson, MS 39213 | 56,028
The Housing Authority of the City of Meridian | 2425 E Street, Meridian, MS 39301 | 61,819
Housing Authority of Billings | 2415 1st Avenue North, Billings, MT 59101 | 40,643
Missoula Housing Authority | 1235 34th Street, Missoula, MT 59801 | 133,320
City of Concord Housing Department | P.O. Box 308, 283 Harold Goodman Circle, Concord, NC 28026 | 37,778
East Spencer Housing Authority | P.O. Box 367, 206 South Long Street, East Spencer, NC 28039 | 47,883
Eastern Carolina Human Services Agency, Inc | P.O. Drawer 796, 246 Georgetown Road, Jacksonville, NC 28541 | 82,771
Economic Improvement Council, Inc. | 712 Virginia Road, Edenton, NC 27932 | 43,730
Gastonia Housing Authority | P.O. Box 2398, Gastonia, NC 28053 | 47,295
Greensboro Housing Authority | P.O. Box 21287, 450 North Church Street, Greensboro, NC 27401 | 164,463
Housing Authority of the City of Asheville | 166 South French Broad Avenue, Asheville, NC 28801 | 72,316
Housing Authority of the City of Charlotte | 1301 South Boulevard, Charlotte, NC 28203 | 47,755
Housing Authority of the City of Greenville | 1103 Broad Street, Greenville, NC 27834 | 114,053
Housing Authority of the City of High Point | 500 East Russell Avenue, High Point, NC 27261 | 48,518
Housing Authority of the City of Kinston, NC | P.O. Box 697, 608 North Queen Street, Kinston, NC 28501 | 51,982
Housing Authority of the City of Wilmington, NC | 1524 South 16th Street, Wilmington, NC 28401 | 55,273
Housing Authority of the City of Wilson | 213 Broad Street, Wilson, NC 27893 | 50,000
Housing Authority of the City of Winston-Salem | 500 West 4th Street, Suite 300, Winston-Salem, NC 27101 | 70,500
Isothermal Planning & Development Commission | P.O. Box 841, 111 West Court Street, Rutherfordton, NC 28139 | 35,420
Mid-East Regional Housing Authority | 809 Pennsylvania Avenue, Washington, NC 27889 | 40,400
Mountain Projects, Inc | 2251 Old Balsam Road, Waynesville, NC 28786 | 33,437
Northwestern Regional Housing Authority | P.O. Box 2510, Boone, NC 28607 | 206,884
Rowan County Housing Authority | 310 Long Meadow Drive, Salisbury, NC 28147 | 90,000
Sandhills Community Action Program | P.O. Box 937, 103 Saunders Street, Carthage, NC 28327 | 35,000
Sanford Housing Authority | P.O. Box 636, Sanford, NC 27330 | 44,226
Statesville Housing Authority | 110 West Allison Street, Statesville, NC 28677 | 44,969
The Housing Authority of the City of Durham | 330 East Main Street, Durham, NC 27701 | 68,000
Twin Rivers Opportunities, Inc | 318 Craven Street, New Bern, NC 28563 | 44,362
Washington Housing Authority | 809 Pennsylvania Avenue, Washington, NC 27889 | 40,000
Western Carolina Community Action | P.O. Box 685, 220 King Creek Boulevard, Hendersonville, NC 28793 | 61,094
Fargo Housing and Redevelopment Authority | 325 Broadway, Fargo, ND 58102 | 55,126
Minot Housing Authority | 107 Burdick Expressway East, Minot, ND 58701 | 42,757
The Housing Authority of the City of Grand Forks, ND | 1405 1 Avenue N, Grand Forks, ND 58203 | 103,352
Douglas County Housing Authority | 5404 North 107th Plaza, Omaha, NE 68134 | 55,250
Goldenrod Regional Agency | P.O. Box 799, 1017 Avenue East, Wisner, NE 68791 | 45,075
Housing Authority of the City of Lincoln | 5700 R Street, Lincoln, NE 68505 | 60,349
Kearney Housing Authority | P.O. Box 1236, 2715 Avenue I, Kearney, NE 68848 | 7,535
Omaha Housing Authority | 540 South 27th Street, Omaha, NE 68105 | 140,479
Dover Housing Authority | 62 Whittier Street, Dover, NH 3820 | 85,000
Laconia Housing & Redevelopment Authority | 25 Union Avenue, Laconia, NH 3246 | 19,969
Manchester Housing and Redevelopment Authority | 198 Hanover Street, Manchester, NH 3104 | 44,551
New Hampshire Housing Finance Authority | 32 Constitution Drive, Bedford, NH 3110 | 173,894
Burlington County Board of Social Services | 795 Woodlane Road, Mount Holly, NJ 8060 | 66,660
Department of Community Affairs | P.O. Box 051, 101 South Broad Street, Trenton, NJ 8625 | 204,000
Fort Lee Housing Authority | 1403 Teresa Drive, Fort Lee, NJ 7024 | 50,070
Housing Authority of Gloucester County | 100 Pop Moylan Boulevard, Deptford, NJ 8096 | 42,970
Housing Authority of the Borough of Madison | 15 Chateau Thierry Avenue, Madison, NJ 7940 | 54,686
Housing Authority of the City of Camden | 2021 Watson Street, 2nd Floor, Camden, NJ 8105 | 40,337
Housing Authority of the City of East Orange | 160 Halsted Street, East Orange, NJ 7018 | 66,660
Housing Authority of the City of Jersey City | 400 U.S. Highway #1, Marion Gardens, Jersey City, NJ 7306 | 105,310
Housing Authority of the City of Newark | 500 Broad Street, Newark, NJ 7102 | 65,245
Housing Authority of the City of Orange | 340 Thomas Boulevard, Orange, NJ 7050 | 68,000
Housing Authority of the City of Perth Amboy | P.O. Box 390, 881 Amboy Avenue, Perth Amboy, NJ 8862 | 128,730
Housing Authority of the County of Morris | 99 Ketch Road, Morristown, NJ 7960 | 32,163
Housing Authority of the Town of Boonton | 125 Chestnut Street, Boonton, NJ 7005 | 66,228
Housing Authority of the Township of Irvington | 624 Nye Avenue, Irvington, NJ 7111 | 68,000
Housing Authority of Woodbridge, NJ | 20 Bunns Lane, Woodbridge, NJ 7095 | 22,065
Housing Authority Town of Dover | 215 East Blackwell Street, Dover, NJ 7801 | 63,554
Lakewood Housing Authority | 317 Sampson Avenue, Lakewood, NJ 8701 | 65,558
Lakewood Tenants Organization, Inc. (Lakewood Township Residential Assistance Program LTRAP) | P.O. Box 856, 600 West Kennedy Boulevard, Lakewood, NJ 8701 | 50,634
Monmouth County Public Housing Agency | 3000 Kozloski Road, Freehold, NJ 7728 | 66,660
Passaic County Public Housing Agency | 100 Hamilton Plaza, Suite 510, Paterson, NJ 7011 | 123,224
Pleasantville Housing Authority | 156 North Main Street, Pleasantville, NJ 8232 | 68,000
The Housing Authority of Plainfield | 510 East Front Street, Plainfield, NJ 7060 | 81,875
Bernalillo County Housing Department | 1900 Bridge Boulevard Southwest, Albuquerque, NM 87105 | 117,197
City of Albuquerque Housing Services | 1840 University Boulevard SE, Albuquerque, NM 87106 | 136,000
Clovis Housing & Redevelopment Agency, Inc | P.O. Box 1240, 2101 West Grand Avenue, Clovis, NM 88102 | 41,212
Eastern Regional Housing Authority | 106 East Reed Street, Roswell, NM 88202 | 39,138
Housing Authority of the City of Las Cruces | 926 South San Pedro, Las Cruces, NM 88001 | 44,300
Housing Authority of the City of Truth or Consequences | 108 South Cedar Street, Truth or Consequences, NM 87901 | 45,645
Santa Fe Civic Housing Authority | 664 Alta Vista Street, Santa Fe, NM 87505 | 71,833
Taos County Housing Authority | Box 4239 NDCBU, Taos, NM 87571 | 59,243
Housing Authority of the City of Las Vegas | 340 North 11th Street, Las Vegas, NV 89101 | 204,000
Housing Authority of the City of Reno | 1525 East 9th Street, Reno, NV 89512 | 43,888
Housing Authority of the County of Clark, NV | 5390 East Flamingo Road, Las Vegas, NV 89122 | 169,392
Albany Housing Authority | 200 South Pearl Street, Brooklyn, NY 12202 | 136,000
City of Buffalo | 65 Niagara Square-City Hall, Buffalo, NY 14202 | 98,697
City of Fulton | 125 West Broadway, Fulton, NY 13069 | 29,917
City of New York Department of Housing Preservation and Development | 100 Gold Street, New York City, NY 10038 | 204,000
City of North Tonawanda PHA | 1195 Main Street, Buffalo, NY 14209 | 48,102
City of Oswego Community Development Office | 20 West Oneida Street, Third Floor, Oswego, NY 13126 | 46,673
City of Port Jervis—Community Development Agency | 17-19 Sussex Street, Exchange Plaza, Port Jervis, NY 12771 | 14,007
City of Utica Section 8 Program | 1 Kennedy Plaza, Utica, NY 13502 | 45,979
Cohoes Housing Authority | 100 Manor Sites, Administrative Building, Cohoes, NY 12047 | 70,709
Erie County PHA Consortium, Town of Amherst | 1195 Main Street, Buffalo, NY 14209 | 145,640
Geneva Housing Authority | P.O. Box 153, 41 Lewis Street, Geneva, NY 14456 | 63,025
Gloversville Housing Authority | 181 West Street, Gloversville, NY 12078 | 48,712
Ithaca Housing Authority | 800 South Plain Street, Ithaca, NY 14850 | 136,000
Jamestown Housing Authority | 110 West Third Street, Jamestown, NY 14701 | 34,340
Johnstown Housing Authority | 41 East Main Street, Johnstown, NY 12095 | 32,643
Mechanicville Housing Authority | Harris Avenue, Mechanicville, NY 12118 | 16,750
Monticello Housing Authority | 76 Evergreen Drive, Monticello, NY 12701 | 44,625
Municipal Housing Authority of the City of Schenectady | 375 Broadway, Schenectady, NY 12305 | 47,356
New Rochelle Municipal Housing Authority | 50 Sickles Avenue, New Rochelle, NY 10801 | 81,136
North Fork Housing Alliance, Inc | 116 South Street, Greenport, NY 11944 | 37,875
NYS Housing Trust Fund Corp/DHCR | 25 Beaver Street, Room 732, New York, NY 10004 | 187,179
Poughkeepsie Housing Authority | 4 Howard Street, Poughkeepsie, NY 12601 | 60,186
Rochester Housing Authority | 675 West Main Street, Rochester, NY 14605 | 165,180
Town of Babylon Housing Assistance Agency | 281 Phelps Lane, Room 9, N. Babylon, NY 11703 | 49,098
Town of Brookhaven | One Independence Hill, Farmingville, NY 11738 | 57,696
Town of Colonie | Memorial Town Hall, Newtonville, NY 12128 | 52,081
Town of Guilderland | Town Hall, Route 20, Guilderland, NY 12084 | 64,394
Town of Huntington Housing Authority | 1-A Lowndes Avenue, Huntington Station, NY 11746 | 68,000
Town of Poughkeepsie Section 8 Housing Program | 1 Overocker Road, Poughkeepsie, NY 12603 | 53,357
Town of Rotterdam | Town Hall-Vinewood Avenue, Schenectady, NY 12306 | 54,254
Town of Smithtown | P.O. Box 575, 99 West Main Street, Smithtown, NY 11787 | 49,213
Troy Housing Authority | One Eddy's Lane, Troy, NY 12180 | 71,902
Village of Ballston Spa | 66 Front Street, Ballston Spa, NY 12020 | 41,211
Village of Corinth | 260 Main Street, Corinth, NY 12822 | 32,908
Village of Highland Falls | 303 Main Street, Highland Falls, NY 10928 | 32,643
Village of Kiryas Joel Housing Authority | 51 Forest Road, Suite 360, Monroe, NY 10950 | 81,942
Village of Scotia | 4 North Ten Broeck Street, Scotia, NY 12302 | 28,494
Akron Metropolitan Housing Authority | 100 West Cedar Street, Akron, OH 44307 | 182,542
Allen Metropolitan Housing Authority | 600 South Main Street, Lima, OH 45804 | 39,110
Athens Metropolitan Housing Authority | 10 Hope Drive, Athens, OH 45701 | 40,867
Cambridge Metropolitan Housing Authority | P.O. Box 1388, Cambridge, OH 43725 | 32,575
Chillicothe Metropolitan Housing Authority | 178 West Fourth Street, Chillicothe, OH 45601 | 44,799
City of Marietta, Ohio/PHA | 304 Putnam Street, Marietta, OH 45750 | 43,785
Clinton Metropolitan Housing Authority | 478 Thorne Avenue, Wilmington, OH 45177 | 49,730
CMHA | 16 West Central Parkway, Cincinnati, OH 45202 | 180,079
Columbus Metropolitan Housing Authority | 880 East 11th Avenue, Columbus, OH 43211 | 96,258
Cuyahoga Metropolitan Housing Authority | 3400 Hamilton Avenue, Cleveland, OH 44114 | 90,058
Dayton Metropolitan Housing Authority | P.O. Box 8750, 400 Wayne Avenue, Dayton, OH 45401 | 141,462
Delaware Metropolitan Housing Authority | P.O. Box 1292, 222 Curtis Street (rear), Delaware, OH 43015 | 46,536
Erie Metropolitan Housing Authority | 322 Warren Street, Sandusky, OH 44870 | 63,924
Fairfield Metropolitan Housing Authority | 315 North Columbus Street, Lancaster, OH 43130 | 52,124
Geauga Metropolitan Housing Authority | 385 Center Street, Chardon, OH 44024 | 64,000
Jackson Metropolitan Housing Authority | P.O. Box 619, 249 West 13th Street, Wellston, OH 45692 | 50,305
Jefferson Metropolitan Housing Authority | 815 North 6th Avenue, Steubenville, OH 43952 | 49,504
Knox Metropolitan Housing Authority | 201A West High Street, Mount Vernon, OH 43050 | 57,233
Lake Metropolitan Housing Authority | 189 First Street, Painesville, OH 44077 | 77,214
Logan County Metropolitan Housing Authority | 116 North Everett Street, Bellefontaine, OH 43311 | 37,528
Lorain Metropolitan Housing Authority | 1600 Kansas Avenue, Lorain, OH 44052 | 61,393
Lucas Metropolitan Housing Authority | P.O. Box 477, 435 Nebraska Avenue, Toledo, OH 43604 | 137,724
Medina Metropolitan Housing Authority | 850 Walter Road, Medina, OH 44256 | 80,896
Meigs Housing Authority | 117 East Memorial Drive, Pomeroy, OH 45769 | 14,612
Middletown Public Housing Agency | 1040 Central Avenue, Middletown, OH 45044 | 81,482
Morgan Metropolitan Housing Authority | 4580 North Street, Route 376 NW, McConnelsville, OH 43756 | 42,259
Morrow Metropolitan Housing Authority | 81 North Rich Street, Mt. Gilead, OH 43338 | 37,217
Parma Public Housing Agency | 1440 Rockside Road, Suite 306, Parma, OH 44134 | 30,603
Pickaway Metro Housing Authority | 176 Rustic Drive, Circleville, OH 43113 | 28,250
Portage Metropolitan Housing Authority | 2832 State Route 59, Ravenna, OH 44266 | 38,081
Springfield Metropolitan Housing Authority | 101 West High Street, Springfield, OH 45502 | 44,203
Trumbull Metropolitan Housing Authority | 4076 Youngstown Road SE, Suite 101, Warren, OH 44484 | 81,946
Tuscarawas Metropolitan Housing Authority | 134 Second Street SW, New Philadelphia, OH 44663 | 46,000
Vinton Metropolitan Housing Authority | P.O. Box 487, 310 West High Street, McArthur, OH 45651 | 38,345
Wayne Metropolitan Housing Authority | 345 North Market Street, Wooster, OH 44691 | 43,097
Youngstown Metropolitan Housing Authority | 131 West Boardman Street, Youngstown, OH 44503 | 116,726
Zanesville Metropolitan Housing Authority | 407 Pershing Road, Zanesville, OH 43701 | 157,730
Housing Authority of the City of Norman | 700 North Berry Road, Norman, OK 73069 | 48,725
Housing Authority of the City of Shawnee, OK | P.O. Box 3427, 601 West Seventh Street, Shawnee, OK 74802 | 40,800
Housing Authority of the City of Stillwater | 807 South Lowry, Stillwater, OK 74074 | 44,731
Housing Authority of the City of Tulsa | 415 East Independence, Tulsa, OK 74106 | 38,905
Lawton Housing Authority | 609 S.W. F Avenue, Lawton, OK 73501 | 32,643
Oklahoma City Housing Authority | 1700 Northeast 4th Street, Oklahoma City, OK 73117 | 35,008
Oklahoma Housing Finance Agency | 100 Northwest 63rd, Suite 200, Oklahoma City, OK 73116 | 193,140
Central Oregon Regional Housing Authority | 405 S.W. 6th Street, Redmond, OR 97756 | 88,880
Housing Authority & Urban Renewal Agency of Polk County (dba West Valley Housing Authority | P.O. Box 467, 204 Southwest Walnut Avenue, Dallas, OR 97338 | 66,660
Housing Authority and Community Services Agency of Lane County | 177 Day Island Road, Eugene, OR 97401 | 133,349
Housing Authority of Clackamas County | P.O. Box 1510, Oregon City, OR 97045 | 81,920
Housing Authority of Douglas County | 902 West Stanton Street, Roseburg, OR 97471 | 40,938
Housing Authority of Jackson County | 2251 Table Rock Road, Medford, OR 97501 | 57,466
Housing Authority of Portland | 135 S.W. Ash Street, Portland, OR 97204 | 139,179
Housing Authority of the City of Salem | 360 Church Street S.E., Salem, OR 97301 | 196,251
Housing Authority of Washington County | 111 Northeast Lincoln, Suite 200-L, Hillsboro, OR 97124 | 51,053
Housing Authority of Yamhill County | P.O. Box 865, 135 Northeast Dunn Place, McMinnville, OR 97128 | 226,520
Linn-Benton Housing Authority | 1250 Queen Avenue SE, Albany, OR 97322 | 231,305
Marion County Housing Authority | P.O. Box 14500, Salem, OR 97309 | 58,570
Mid-Columbia Housing Authority | 312 Court Street, Suite 419, The Dalles, OR 97058 | 54,000
Northeast Oregon Housing Authority | P.O. Box 3357, 2608 May Lane, La Grande, OR 97850 | 105,200
Northwest Oregon Housing Authority | P.O. Box 1149, 147 South Main, Warrenton, OR 97103 | 52,545
Adams County Housing Authority | 40 East High Street, Gettysburg, PA 17325 | 47,768
Allegheny County Housing Authority | 625 Stanwix Street, 12th Floor, Pittsburgh, PA 15222 | 99,880
Altoona Housing Authority | 2700 Pleasant Valley Boulevard, Altoona, PA 16602 | 56,128
Clarion County Housing Authority | 8 West Main Street, Clarion, PA 16212 | 80,462
Delaware County Housing Authority | P.O. Box 100, 1855 Constitution Avenue, Woodlyn, PA 19094 | 43,497
Easton Housing Authority | P.O. Box 876, 157 South Fourth Street, Easton, PA 18044 | 57,000
Fayette County Housing Authority | 624 Pittsburgh Road, Uniontown, PA 15401 | 50,000
Housing Authority of Indiana County | 104 Philadelphia Street, Indiana, PA 15701 | 26,167
Housing Authority of Northumberland County | 50 Mahoning Street, Milton, PA 17847 | 33,538
Housing Authority of the City of Erie | 606 Holland Street, Erie, PA 16501 | 49,729
Housing Authority of the City of Lancaster | 325 Church Street, Lancaster, PA 17602 | 51,798
Housing Authority of the City of Pittsburgh | 200 Ross Street, Pittsburgh, PA 15219 | 139,728
Housing Authority of the City of York | P.O. Box 1963, South Broad Street, York, PA 17403 | 41,114
Housing Authority of the County of Armstrong | 350 South Jefferson Street, Kittanning, PA 16201 | 26,324
Housing Authority of the County of Butler | 114 Woody Drive, Butler, PA 16001 | 45,028
Housing Authority of the County of Chester | 30 West Barnard Street, Suite 2, West Chester, PA 19382 | 53,900
Housing Authority of the County of Dauphin | P.O. Box 7598, 501 Mohn Street, Steelton, PA 17113 | 102,574
Housing Authority of the County of Union | 1610 Industrial Boulevard, Suite 400, Lewisburg, PA 17837 | 58,551
Housing/Redevelopment Authority of Cumberland | 114 North Hanover Street, Carlisle, PA 17013 | 39,947
Lancaster County Housing Authority | 202 North Prince Street, Suite 400, Lancaster, PA 17603 | 51,796
Lehigh County Housing Authority | 635 Broad Street, Emmaus, PA 18049 | 48,000
Lycoming Housing Authority | 1941 Lincoln Drive, Williamsport, PA 17701 | 19,778
Montgomery County Housing Authority | 104 West Main Street, Suite 1, Norristown, PA 19401 | 107,417
Westmoreland County Housing Authority | 154 South Greengate Road, Greensburg, PA 15601 | 148,556
Autonomous Municipality of Ponce | P.O. Box 331709, Ponce, PR 731 | 15,000
Municipality of Bayamon | P.O. Box 1588, Bayamon, PR 960 | 28,185
Municipality of Guaynabo | P.O. Box 7885, Guaynabo, PR 970 | 13,500
Municipality of Gurabo | P.O. Box 3020, Gurabo, PR 778 | 12,500
Municipality of Juana Diaz | P.O. Box 1409, Calle Degetau #35, Juana Diaz, PR 795 | 23,893
Municipality of San Juan | P.O. Box 36-2138, San Juan, PR 936 | 34,985
Bristol Housing Authority | 1014 Hope Street, Bristol, RI 2809 | 36,360
Central Falls Housing Authority | 30 Washington Street, Central Falls, RI 2863 | 63,456
Coventry Housing Authority | 14 Manchester Circle, Coventry, RI 2816 | 51,062
Cumberland Housing Authority | 573 Mendon Road, Cumberland, RI 2864 | 66,660
East Providence Housing Authority | 99 Goldsmith Avenue, East Providence, RI 2914 | 48,455
Housing Authority of the City of Providence | 100 Broad Street, Providence, RI 2903 | 126,480
Housing Authority of the Town of East Greenwich | 146 First Avenue, East Greenwich, RI 2818 | 50,782
Narragansett Housing Authority | 25 Fifth Avenue, Narragansett, RI 2882 | 58,479
Rhode Island Housing | 44 Washington Street, Providence, RI 2903 | 181,800
Town of North Providence Housing Authority | 945 Charles Street, North Providence, RI 2904 | 55,150
Warwick Housing Authority | 25 Easton Avenue, Warwick, RI 2888 | 30,750
Beaufort Housing Authority | Post Office Box 1104, Beaufort, SC 29901 | 42,832
Charleston County Housing & Redevelopment Authority | 2106 Mount Pleasant Street, Charleston, SC 29403 | 60,000
Housing Authority of Anderson | 1335 East River Street, Anderson, SC 29621 | 47,800
Housing Authority of the City of Columbia, SC | 1917 Harden Street, Columbia, SC 29204 | 46,352
Myrtle Beach Housing Authority | P.O. Box 2468, Myrtle Beach, SC 29578 | 68,000
North Charleston Housing Authority | 2170 Ashley Phosphate Road, #700, North Charleston, SC 29406 | 46,000
The Housing Authority of the City of Charleston | 550 Meeting Street, Charleston, SC 29403 | 51,439
The Housing Authority of the City of Greenville, SC | P.O. Box 10047, Greenville, SC 29603 | 41,604
Brookings County Housing & Redevelopment Commission | 1310 Main Avenue South, Brookings, SD 57006 | 37,449
Mobridge Housing & Redevelopment Commission | 116 4th Street West, Mobridge, SD 57601 | 33,894
Sioux Falls Housing & Redevelopment Commission | 630 South Minnesota Avenue, South Dakota, SD 57104 | 73,135
Chattanooga Housing Authority | P.O. Box 1486, 801 North Holtzclaw Avenue, Chattanooga, TN 37401 | 108,786
East Tennessee Human Resource Agency | 9111 Cross Park Drive, Suite D-100, Knoxville, TN 37923 | 34,406
Jackson Housing Authority | 125 Preston Street, Jackson, TN 38301 | 101,000
Kingsport Housing & Redevelopment Authority | P.O. Box 44, Kingsport, TN 37662 | 88,652
Knoxville's Community Development Corporation | 901 North Broadway, Knoxville, TN 37927 | 90,921
Memphis Housing Authority | 700 Adams Avenue, Memphis, TN 38105 | 68,000
Metropolitan Development and Housing Agency | 701 South 6th Street, Nashville, TN 37206 | 129,136
Oak Ridge Housing Authority | 10 Van Hicks Lane, Oak Ridge, TN 37830 | 45,358
Southeast Tennessee Human Resource Agency | P.O. Box 909, Dunlap, TN 37327 | 35,000
TN Housing Development Agency | 404 James Robertson Parkway, Suite 1200, Nashville, TN 37243 | 124,193
Town of Crossville Housing Authority | 67 Irwin Avenue, Crossville, TN 38555 | 50,079
Brazos Valley Council of Governments | P.O. Drawer 4128, Bryan, TX 77805 | 136,000
City of Amarillo | P.O. Box 1971, Amarillo, TX 79105 | 35,653
City of Baytown Housing Authority | 805 West Nazro Street, Baytown, TX 77520 | 22,680
City of Garland Housing Agency | 210 Carver, Suite 201B, Garland, TX 75040 | 50,859
City of Longview Housing Authority | P.O. Box 1952, Longview, TX 75606 | 47,075
Dallas County Housing Agency | 2377 North Stemmons Freeway, Suite 700, LB-16, Dallas, TX 75207 | 32,235
Fort Worth Housing Authority | 1201 East 13th Street, Fort Worth, TX 76102 | 200,388
Galveston Housing Authority | 4700 Broadway, Galveston, TX 77551 | 58,565
Housing Authority of the City of Anthony | P.O. Box 1710, 1007 Franklin Street, Anthony, TX 79821 | 37,617
Housing Authority of the City of Arlington, Texas | 501 West Sanford Street, Suite 20, Arlington, TX 76011 | 161,091
Housing Authority of the City of Austin | P.O. Box 6159, 1124 South HI-35, Austin, TX 78704 | 137,599
Housing Authority of the City of Beaumont | 1890 Laurel, Beaumont, TX 77701 | 40,673
Housing Authority of the City of Brownsville | P.O. Box 4420, Brownsville, TX 78523 | 84,706
Housing Authority of the City of Del Rio | P.O. Drawer 4080, Del Rio, TX 78841 | 29,650
Housing Authority of the City of Kingsville | 1000 West Corral, Kingsville, TX 78363 | 67,851
Housing Authority of the City of Lubbock | 1708 Crickets Avenue, Lubbock, TX 79401 | 39,000
Housing Authority of the City of Pharr | 104 West Polk, Pharr, TX 78577 | 37,130
Housing Authority of the City of Plano | 1740 Avenue G, Plano, TX 75074 | 35,378
Housing Authority of the City of Texas City, Texas | 817 Second Avenue North, Texas City, TX 77590 | 17,500
Housing Authority of the County of Hidalgo | 1800 North Texas Boulevard, Weslaco, TX 78596 | 37,462
Houston Housing Authority | 2640 Fountainview Drive, Suite 400, Houston, TX 77057 | 136,020
Laredo Housing Authority | 2000 San Francisco Avenue, Laredo, TX 78040 | 44,608
McAllen Housing Authority | 2301 Jasmine Avenue, McAllen, TX 78501 | 45,000
Midland County Housing Authority | 1710 Edwards, Midland, TX 79701 | 52,556
Montgomery County Housing Authority | 1500 North Frazier, Suite 101, Conroe, TX 77301 | 41,436
Palacios Housing Authority | 45 Seashell, Palacios, TX 77465 | 30,000
Robstown Housing Authority | 625 West Avenue F., Robstown, TX 78380 | 15,600
San Angelo Housing Authority | 420 East 28th Street, San Angelo, TX 76903 | 49,000
San Antonio Housing Authority | 818 South Flores, San Antonio, TX 78204 | 122,495
San Marcos Housing Authority | 1201 Thorpe Lane, San Marcos, TX 78666 | 50,753
South Plains Regional Housing Authority | P.O. Box 610, 1611 FM 300, Levelland, TX 79336 | 33,766
Tarrant County Housing Assistance Office | 2100 Circle Drive, Suite 200, Fort Worth, TX 76119 | 128,753
Texoma Council of Governments | 1117 Gallagher Drive, Suite 300, Sherman, TX 75090 | 65,210
The Housing Authority of the City of Dallas | 3939 North Hampton Road, Dallas, TX 75212 | 204,000
The Housing Authority of the City of El Paso, Texas | P.O. Box 9895, 5300 East Paisano Drive, El Paso, TX 79905 | 44,528
Waco Housing Authority & Affiliates | P.O. Box 978, 4400 Cobbs Drive, Waco, TX 76703 | 39,933
Walker County Housing Authority | 340 Highway 75 North, Suite E, Huntsville, TX 77320 | 56,250
Cedar City Housing Authority | 364 South 100 East, Cedar City, UT 84720 | 34,000
Davis Community Housing Authority | P.O. Box 328, 352 South 200 West, Suite #1, Farmington, UT 84025 | 38,587
Housing Authority of Salt Lake City | 1776 South West Temple, Salt Lake City, UT 84115 | 101,268
Housing Authority of the City of Ogden | 2661 Washington Boulevard, Suite 102, Ogden, UT 84401 | 51,515
Housing Authority of the County of Salt Lake | 3595 South Main Street, Salt Lake City, UT 84115 | 141,037
Housing Authority of Utah County | 240 East Center Street, Provo, UT 84606 | 54,000
Provo City Housing Authority | 650 West 100 North, Provo, UT 84601 | 80,548
St. George Housing Authority | 975 North 1725 West, #101, St. George, UT 84770 | 41,000
Alexandria Redevelopment and Housing Authority | 600 North Fairfax Street, Alexandria, VA 22314 | 68,000
Chesapeake Redevelopment & Housing Authority | 1468 South Military Highway, Chesapeake, VA 23320 | 99,822
City of Virginia Beach Department of Housing and Neighborhood Preservation | 2424 Courthouse Drive, Building 18-A, Virginia Beach, VA 23456 | 48,435
Fairfax County Redevelopment and Housing Authority | 3700 Pender Drive, Suite 300, Fairfax, VA 22030 | 68,000
Franklin Redevelopment and Housing Authority | 601 Campbell Avenue, Franklin, VA 23851 | 34,000
Hampton Redevelopment and Housing Authority | P.O. Box 280, 22 Lincoln Street, 5th Floor, Hampton, VA 23669 | 41,041
Harrisonburg Redevelopment and Housing Authority | 286 Kelley Street, Harrisonburg, VA 22802 | 23,781
James City County Office of Housing & Community Development | 5320 Palmer Lane, Suite 1A, Williamsburg, VA 23188 | 59,974
Loudon County Department of Family Services | 102 Heritage Way NE, Suite 103, Leesburg, VA 20176 | 83,325
Newport News Redevelopment and Housing Authority | P.O. Box 797, Newport News, VA 23607 | 114,169
Norfolk Redevelopment and Housing Authority | 201 Granby Street, Norfolk, VA 23510 | 128,170
Portsmouth Redevelopment & Housing Authority | 801 Water Street, 2nd Floor, Portsmouth, VA 23704 | 84,744
Prince William County OHCD | 15941 Donald Curtis Drive, Suite 112, Woodbridge, VA 22191 | 68,000
Richmond Redevelopment & Housing Authority | P.O. Box 26887, Richmond, VA 23261 | 66,129
Roanoke Redevelopment & Housing Authority | P.O. Box 6359, 2624 Salem Turnpike Northwest, Roanoke, VA 24017 | 50,952
Suffolk Redevelopment and Housing Authority | 530 East Pinner Street, Suffolk, VA 23434 | 65,316
Virginia Housing Development Authority | 601 South Belvidere Street, Richmond, VA 23220 | 129,472
Waynesboro Redevelopment and Housing Authority | P.O. Box 1138, 1700 New Hope Road, Waynesboro, VA 22980 | 38,645
Barre Housing Authority | 4 Humbert Street, Barre, VT 5641 | 68,000
Burlington Housing Authority | 65 Main Street, Burlington, VT 5401 | 100,678
Vermont State Housing Authority | One Prospect Street, Montpelier, VT 5602 | 168,315
City of Longview Housing Authority | 1207 Commerce Avenue, Longview, WA 98632 | 79,856
Housing Authority City of Kelso | 1415 South 10th, Kelso, WA 98626 | 37,160
Housing Authority of Chelan County & the City of Wenatchee | 1555 South Methow Street, Wenatchee, WA 98801 | 16,083
Housing Authority of Island County | 7 Northwest 6th Street, Coupeville, WA 98239 | 47,788
Housing Authority of the City of Everett | P.O. Box 1547, 3107 Colby Avenue, Everett, WA 98206 | 97,609
Housing Authority of the City of Vancouver | 2500 Main Street, Vancouver, WA 98660 | 63,585
Housing Authority of the City of Yakima | 810 North 6th Avenue, Yakima, WA 98902 | 41,060
Housing Authority of the County of Clallam | 2603 South Francis Street, Port Angeles, WA 98362 | 93,238
Housing Authority of Thurston County | 1206 12th Avenue SE, Olympia, WA 98501 | 131,116
King County Housing Authority | 600 Andover Park West, Tukwila, WA 98188 | 194,746
Pierce County Housing Authority | 603 South Polk Street, Tacoma, WA 98448 | 131,114
Seattle Housing Authority | 120 6th Avenue North, Seattle, WA 98109 | 187,670
Brown County Housing Authority | 100 North Jefferson Street, Green Bay, WI 54301 | 90,308
City of Appleton Housing Authority | 925 West Northland Avenue, Appleton, WI 54914 | 39,121
City of Kenosha Housing Authority | 625 52nd Street, Room 98, Kenosha, WI 53140 | 72,215
Dunn County Housing Authority | 1421 Stout Road, Menomonie, WI 54751 | 37,025
Housing Authority of Racine County | 837 Main Street, Racine, WI 53403 | 65,535
Housing Authority of the City of Superior, Wisconsin | P.O. Box 458, 1219 North 8th Street, Superior, WI 54880 | 64,540
Benwood—McMechen Housing Authority | 2200 Marshall Street, Benwood, WV 26031 | 27,428
Charleston-Kanawha Housing Authority | 1525 Washington Street, West, Charleston, WV 25312 | 35,072
Clarksburg-Harrison Regional Housing Authority | 433 Baltimore Avenue, Clarksburg, WV 26301 | 42,114
Greenbrier County Housing Authority | Route 2, Box 142, Lewisburg, WV 24901 | 30,630
Huntington West Virginia Housing Authority | 300 West Seventh Avenue, Huntington, WV 25701 | 36,595
Parkersburg Housing Authority | 1901 Cameron Avenue, Parkersburg, WV 26101 | 38,923
Randolph County Housing Authority | P.O. Box 1579, Elkins, WV 26241 | 36,400
The Housing Authority of the City of Fairmont | P.O. Box 2738, Fairmont, WV 26555 | 29,887
Cheyenne Housing Authority | 3304 Sheridan Street, Cheyenne, WY 82009 | 34,000

[FR Doc. 2010-9216 Filed 4-21-10; 8:45 am]

BILLING CODE 4210-67-P